Title 3—

The President

Proclamation 8362 of April 17, 2009

National Park Week, 2009

By the President of the United States of America

A Proclamation

America’s National Parks are among our Nation’s most precious treasures. During National Park Week, we celebrate these spaces and commit to protecting them for future generations of Americans.

National Parks bring together Americans of all backgrounds and help us understand the story of America. From the Lincoln Memorial and Ellis Island to the Great Smoky Mountains and Yellowstone, National Parks attract visitors from across the country and from all walks of life. The grandeur and simplicity of these areas inspire visitors no matter their personal stories. National Parks also help Americans learn more about our shared history. From the Prehistoric Trackways National Monument to the Civil War battlefield at Gettysburg, National Parks allow Americans to explore our Nation’s past and to understand events that occurred over the long course of our history.

Our system of National Parks is entrusted to each generation of Americans. We have an obligation to our children to keep these spaces pristine. As citizen stewards, Americans can participate in efforts in their communities to preserve National Parks, and support policies that achieve this end. My Administration continues to advocate for initiatives that protect and expand National Parks. The American Recovery and Reinvestment Act promotes conservation and creates new job opportunities in National Parks, and the Omnibus Public Land Management Act designates thousands of miles of trails for the National Trails System, protects more than 1,000 miles of rivers, and secures millions of acres of wilderness.

This week we also honor the committed professionals and volunteers working every day to support the National Parks. Laboring among towering mountains and broad plains, in city centers, and along our rivers and seashores, these Americans deserve thanks for their contributions to current and future generations.

NOW, THEREFORE, I, BARACK OBAMA, President of the United States of America, by virtue of the authority vested in me by the Constitution and the laws of the United States, do hereby proclaim April 18 through April 26, 2009, as National Park Week. I invite all my fellow citizens to join me in commemorating the 2009 theme for National Park Week, “National and Community Service,” and to visit these wonderful spaces, discover all they have to offer, and become active participants in Park conservation.

IN WITNESS WHEREOF, I have hereunto set my hand this seventeenth day of April, in the year of our Lord two thousand nine, and of the Independence of the United States of America the two hundred and thirty-third.

[FR Doc. E9-9407

Filed 4-21-09; 11:15 am]

Billing code 3195-W9-P